LEGAL SERVICES CORPORATION

Sunshine Act Meeting of the Board of Directors Committee on Provision for the Delivery of Legal Services

Time and Date: The Committee on Provision for the Delivery of Legal Services of the Legal Services Corporation Board of Directors will meet on November 21, 2003. The meeting will begin at 2:30 p.m. and continue until the Committee concludes its agenda.

Location: The Association of the Bar of the City of New York, 42 West 44th Street, New York, NY 10036.

Status of Meeting: Open.

Matters to be Considered: 1. Approval of agenda.

2. Approval of minutes of the Committee's meeting of September 15, 2003.

3. Presentation by Randi Youells, LSC Vice President for Programs, on the history and impact of LSC's five-year State Planning Initiative.

4. Presentation by representatives of Legal Services for New York City (LSNY) on their recent efforts to restructure their operations.

5. Presentation by representative of the New York state justice community on state planning in New York.

6. Discussion of the future direction of the Committee.

7. Consider and act on other business.

8. Public comment.

9. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: November 13, 2003.
Victor M. Fortuno,
Vice President for Legal Affairs, General Counsel & Corporate Secretary.

[FR Doc. 03-28858 Filed 11-13-03; 5:01 pm]

BILLING CODE 7050-01-P